CONSUMER PRODUCT SAFETY COMMISSION

Sunshine Act Meeting

TIME AND DATE: Wednesday, December 18, 2024—10:00 a.m.

PLACE: 4330 East West Highway, Bethesda, Maryland 20814.

STATUS: Closed Commission Meeting.

MATTER TO BE CONSIDERED: Briefing matter.

CONTACT PERSON FOR MORE INFORMATION: Alberta E. Mills, Office of the Secretary, U.S. Consumer Product Safety Commission, 4330 East West Highway, Bethesda, MD 20814, 301-504-7479 (Office) or 240-863-8938 (Cell).

Dated: December 11, 2024.
Alberta E. Mills,
Commission Secretary.

[FR Doc. 2024-29561 Filed 12-11-24; 4:15 pm]

BILLING CODE 6355-01-P